DEPARTMENT OF DEFENSE

Department of the Army

Availability for Non-Exclusive, Exclusive, or Partially Exclusive Licensing of U.S. Patent Application Concerning Ricin Vaccine and Methods of Making and Using Thereof

Correction

In the issue of Monday, July 15, 2002, on page 46566, in the second column, in the correction of notice document C2-16885, “110/083,336” should read “10/083,336”.

[FR Doc. C2-16885 Filed 7-18-02; 8:45 am]

BILLING CODE 1505-01-D

DEPARTMENT OF DEFENSE

GENERAL SERVICES ADMINISTRATION

NATIONAL AERONAUTICS AND SPACE ADMINISTRATION

48 CFR Part 52

[FAC 2001-08; FAR Case 2000-406; Item l]

RIN 9000-AJ19

Federal Acquisition Regulation; Definition of “Claim” and Terms Relating to Termination

Correction

In rule document 02-15940 beginning on page 43513 in the issue of Thursday, June 27, 2002, make the following corrections:

52.213-4 [Corrected]

1. On page 43514, in the second column, in 52.213-4, in amendatory instruction 9., in the third line, “(7/02)” should read “(Jul/02)”.

2. On page 43514, in the second column, in the same section, in the same amendatory instruction, in the fifth line, “7/02” should read “Jul 02”.

52.233-1 [Corrected]

3. On page 43514, in the second column, in 52.233-1, in the sixth line from the bottom, “Disputes (7/02)” should read “Disputes (Jul/02)”

[FR Doc. C2-15940 Filed 7-18-02; 8:45 am]

BILLING CODE 1505-01-D

DEPARTMENT OF ENERGY

Energy Information Adminstration

Agency Information Collection Activities: Policy for Revisions to the Weekly Natural Gas Storage Report; Comment Request

Correction

In notice document 02-17421 beginning on page 45963 in the issue of Thursday, July 11, 2002, make the following correction:

On page 45963, in the first column, under the heading ADDRESSES, in the fourth line, “202-586-4220” should read, “202-586-4420”.

[FR Doc. C2-17421 Filed 7-18-02; 8:45 am]

BILLING CODE 1505-01-D

DEPARTMENT OF THE INTERIOR

Bureau of Land Management

[WO-350-1430-PF-24 1A]

Extension of Approved Information Collection, OMB Approval Number 1004-0012

Correction

In notice document 02-17412 beginning on page 45986 in the issue of Thursday, July 11, 2002 make the following correction:

On page 45986, in the second column, in the fourth paragraph, under the DATES heading, in the third line “September 9, 2000” should read “September 9, 2002”.

[FR Doc. C2-17412 Filed 7-18-02; 8:45 am]

BILLING CODE 1505-01-D

DEPARTMENT OF THE INTERIOR

Bureau of Land Management

[WO-350-1430-PE-24 1A]

Extension of Approved Information Collection, OMB Approval Number 1004-0011

Correction

In notice document 02-17411 beginning on page 45985 in the issue of Thursday, July 11, 2002 make the following correction:

On page 45985, in the third column, under the DATES heading, in the third line “September 9, 2001” should read “September 9, 2002”.

[FR Doc. C2-17411 Filed 7-18-02; 8:45 am]

BILLING CODE 1505-01-D

DEPARTMENT OF JUSTICE

[AAG/A Order No. 268-2002]

Privacy Act of 1974; Notice of the Removal of Two Systems of Records

Correction

In notice document 02-14400 appearing on page 39743 in the issue of Monday, June 10, 2002, make the following correction:

In the third column, in the first paragraph, the fourth line should read, “Federal Register on December 11, 1987, at 52 FR 47268 and the “Financial Management System,” last published in the Federal Register on October 7, 1988”.

[FR Doc. C2-14400 Filed 7-18-02; 8:45 am]

BILLING CODE 1505-01-D